INTERNATIONAL TRADE COMMISSION

[Investigation No. 731-TA-860 (Fourth Review)]

Tin- and Chromium-Coated Steel Sheet From Japan; Determination

On the basis of the record ¹ developed in the subject five-year review, the United States International Trade Commission (“Commission”) determines, pursuant to the Tariff Act of 1930 (“the Act”), that revocation of the antidumping duty order on tin- and chromium-coated steel sheet from Japan would be likely to lead to continuation or recurrence of material injury to an industry in the United States within a reasonably foreseeable time.

¹ The record is defined in § 207.2(f) of the Commission's Rules of Practice and Procedure (19 CFR 207.2(f)).

Background

The Commission instituted this review on June 1, 2023 (88 FR 35920) and determined on September 5, 2023 that it would conduct a full review (88 FR 64464, September 19, 2023). Notice of the scheduling of the Commission's review and of a public hearing to be held in connection therewith was given by posting copies of the notice in the Office of the Secretary, U.S. International Trade Commission, Washington, DC, and by publishing the notice in the Federal Register on October 30, 2023 (88 FR 74209). The Commission conducted its hearing on April 9, 2024. All persons who requested the opportunity were permitted to participate.

The Commission made this determination pursuant to section 751(c) of the Act (19 U.S.C. 1675(c)). It completed and filed its determination in this review on May 28, 2024. The views of the Commission are contained in USITC Publication 5507 (May 2024), entitled Tin- and Chromium-Coated Steel Sheet from Japan: Investigation No. 731-TA-860 (Fourth Review).

By order of the Commission.
Issued: May 28, 2024.
Lisa Barton,
Secretary to the Commission.

[FR Doc. 2024-12014 Filed 5-30-24; 8:45 am]

BILLING CODE 7020-02-P